Proclamation 9453 of May 20, 2016

National Maritime Day, 2016

By the President of the United States of America

A Proclamation

Since America's founding, proud mariners have selflessly dedicated themselves to protecting and advancing our interests—here at home and around the world. The patriots of the United States Merchant Marine have long served as our Nation's “fourth arm of defense,” safeguarding the ideals that have guided our country for more than two centuries. They facilitate the transport and trade of American goods, and they put their lives on the line in times of war. On National Maritime Day, we honor our Merchant Mariners and celebrate their irreplaceable role in shaping our Nation's narrative.

Whether in still or raging waters, Merchant Mariners are fundamental to guaranteeing the delivery of essential goods to far-reaching corners of our globe. These seafarers have bravely faced threats at home and abroad—including combatants and pirates, disease outbreaks and natural disasters—and they consistently heed the call to serve their fellow Americans. In World War II, their ships carried troops and much-needed support to the battlefield, thousands making the ultimate sacrifice. They were among the first to see battle, and many were among the last to return home to our shores.

Carrying forward a legacy that spans generations, the United States Merchant Marine is vital to our Nation's economic security as well. Their transportation of vital cargo has impacts far beyond America's borders, generating trillions of dollars of economic activity each year. And when our entrepreneurs decide to embark on new ventures across oceans, mariners stand by and protect their pursuit of the American dream through tireless work to cultivate safe and open waterways. On this day, and every day, let us express our sincere gratitude to these courageous men and women for all they do for our Nation, and let us reaffirm our commitment to support them as they continue to uphold their proud tradition of service.

The Congress, by a joint resolution approved May 20, 1933, has designated May 22 of each year as “National Maritime Day,” and has authorized and requested the President to issue annually a proclamation calling for its appropriate observance.

NOW, THEREFORE, I, BARACK OBAMA, President of the United States of America, do hereby proclaim May 22, 2016, as National Maritime Day. I call upon the people of the United States to mark this observance and to display the flag of the United States at their homes and in their communities. I also request that all ships sailing under the American flag dress ship on this day.

IN WITNESS WHEREOF, I have hereunto set my hand this twentieth day of May, in the year of our Lord two thousand sixteen, and of the Independence of the United States of America the two hundred and fortieth.

[FR Doc. 2016-12561

Filed 5-24-16; 11:15 am]

Billing code 3295-F6-P